DEPARTMENT OF STATE

[Public Notice 5244]

Bureau of Educational and Cultural Affairs (ECA) Request for Grant Proposals: Middle East Partnership Initiative Study of the United States Institute for Undergraduate Student Leaders

Announcement Type: New Cooperative Agreement.

Funding Opportunity Number: ECA/A/E/USS-06-MEPI-4.

Catalog of Federal Domestic Assistance Number: 00.000.

Key Dates:

Application Deadline: January 31, 2006.

Executive Summary: The U.S. Department of State (DoS), through the Bureau of Educational and Cultural Affairs (ECA) and the Office of the Middle East Partnership Initiative (MEPI) invites proposal submissions for the design and implementation of a six-week Study of the United States (U.S.) Institute for undergraduate students from the Middle East and North Africa entitled: Middle East Partnership Initiative Study of the United States Institute for Undergraduate Student Leaders. The Bureau anticipates awarding two separate assistance awards to support two institutes for undergraduate student leaders. Prospective host institutions are limited to submitting only one proposal to conduct one of the two institutes.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. Funding for these institutes is being provided by the Department of State's Middle East Partnership Initiative (MEPI). MEPI is the U.S. Government's primary policy and programmatic tool to implement democratic reform in the Middle East and North Africa. This project addresses the MEPI goals of fostering political reform, educational reform and women's empowerment in MEPI partner countries.

Based on a group of 20-22 participants, the total DoS-funded budget (program and administrative) for each of the MEPI Study of the United States Institutes for Undergraduate Student Leaders will not exceed $418,000. Potential host institutions should attempt to maximize cost-sharing in all facets of the program, and try to engage the U.S. private sector, including foundations and corporations, for support. Applicants must submit a comprehensive budget for the entire program. The Bureau reserves the right to reduce, revise, or increase proposal budgets in accordance with the needs of the program and availability of U.S. Government funding.

Purpose

The two MEPI Study of the United States Institutes for Undergraduate Student Leaders should each provide a multinational group of 20 first and second year undergraduate student leaders from selected countries in the Middle East and North Africa with a uniquely designed program that focuses on leadership development. Both institutes will take place over the course of six weeks during the summer of 2006, and will consist of a challenging academic program, as well as educational travel to other regions of the United States to illustrate the various topics explored in class. With leadership training as its main objective, the Institute will provide the students with opportunities to examine the concept, history and manifestation of leadership in American society through classroom activities, site visits and regular community service projects. Under the direction of the MEPI Office, the students will also be invited to take part in an alumni conference and follow-on activities in their home countries after the conclusion of the program in the United States. Participants in the program will be nominated by U.S. embassies and consulates in Algeria, Bahrain, Egypt, Iraq, Israel, Jordan, Kuwait, Lebanon, Libya (if possible, depending on the feasibility of recruitment and travel), Morocco, Oman, Qatar, Saudi Arabia, Syria, Tunisia, the United Arab Emirates, the West Bank and Gaza, and Yemen. (Israeli participants will be Arab-Israeli only.) Participants will be selected by the ECA Study of the United States Branch in consultation with the Office of the Middle East Partnership Initiative.

The Bureau is seeking detailed proposals for each of the two institutes from U.S. liberal arts colleges, universities, consortia of colleges and universities, and other not-for-profit academic organizations.

Each MEPI Study of the United States Institute for Undergraduate Student Leaders should be designed as an intensive academic program with an educational travel component that is organized through a carefully integrated series of panel presentations, seminar discussions, debates, individual and group activities, lectures and reading assignments, as well as local site visits, regional educational travel, and participation in community activities. The Institute must not simply replicate existing or previous lectures, workshops, or group activities designed for American students. Rather, it should be a specially designed and well-integrated seminar that imaginatively combines lectures, discussions, readings, debates, local site visits and regional travel into a coherent whole.

Within the framework of “leadership,” the academic program and educational travel component for the institutes should focus on the role and influence of democratic values in U.S. society, including the rule of law, individual rights, freedom of expression, equality, diversity and tolerance. Current political, social and economic issues and debates should be examined. Civic responsibility, volunteerism, team building, effective communication and problem-solving skills should also be addressed, and hands-on activities directly related to these ideas should be included in the institute agenda.

Each Institute will begin with a two-day orientation in Washington, DC. Following the orientation, participants in the MEPI Study of the United States Institutes will spend approximately five weeks at the host institution in the academic residency program, approximately ten days on the educational travel component, and two to three days in Washington, DC at the conclusion of the Institute. The educational travel component should directly complement the academic residency program.

Each Institute should provide the participants with continuous opportunities to meet and have substantial interaction with American citizens from a variety of ethnic, cultural and religious backgrounds, particularly with those in their peer group. In addition, the institute participants should be afforded opportunities to speak to appropriate student and civic groups about the societies and cultures of their home countries.

Applicants for the MEPI Study of the United States Institutes for Undergraduate Students Leaders should take into consideration that an alumni workshop for the institute participants will take place at a site in the Middle East or North Africa region within six-twelve months of the U.S.-based Institute. DoS will assume principal responsibility for organizing and hosting the alumni workshop in consultation with overseas embassies and the U.S. host institutions. While host institutions should not provide a detailed strategy for a follow-on workshop, they should be prepared to assist in the planning and implementation of the workshop.

Applicants are encouraged to design thematically coherent programs in ways that draw upon the particular strengths, faculty and resources of their institutions, as well as upon the nationally recognized expertise of scholars and other experts throughout the United States.

All Study of the United States Institutes, regardless of their particular thematic focus, seek to give participants a multi-dimensional view of U.S. society and institutions through a program that reflects a broad and balanced range of perspectives. In addition to interaction with scholars and practitioners in a variety of fields, participants should have opportunities for discussions with ordinary Americans (particularly those within their own age group) through activities such as weekend homestays or dinners with local families, community service, and civic organization meetings.

Each Institute should designate an academic director who will be present throughout the program to ensure the continuity, coherence and integration of all aspects of the academic program, including the study tour. In addition to the academic director(s), an administrative director or coordinator should be assigned to oversee all student support services, including supervision of the program participants, budgetary, logistical, and other administrative arrangements. It is also important that the grantee institution retain highly qualified mentors and escorts who exhibit cultural sensitivity, an understanding of the program's objectives, and a willingness to engage with the participants throughout the program. This includes accompanying students to classroom sessions, residing with them in dormitories or other accommodations, escorting them during the educational travel component, etc.

To fulfill the goals of this program, it is important that grantee institutions retain highly qualified mentors and escorts for the students. These mentors and escorts should exhibit cultural sensitivity, an understanding of the program's objectives, and a willingness to engage with the participants for the duration of the Institute. This includes accompanying the students to classroom sessions, residing with them in dormitories or other accommodations, escorting them during the educational travel component, etc.

Participants As specified in the Project Objectives, Goals and Implementation (POGI) guidelines in the solicitation package, participants in the MEPI Study of the United States Institutes should be highly motivated and exemplary first and second year undergraduate students selected from colleges, universities and teacher training institutions in Algeria, Bahrain, Egypt, Iraq, Israel, Jordan, Kuwait, Lebanon, Libya, Morocco, Oman, Qatar, Saudi Arabia, Syria, Tunisia, the United Arab Emirates, the West Bank and Gaza, and Yemen who demonstrate leadership through academic work, community involvement, and extracurricular activities.

Participants will be identified and nominated by U.S. embassies and consulates in the candidates' home countries, with final selection made by the Study of the United States Branch at ECA in consultation with representatives of the MEPI office. Every effort will be made to select a balanced mix of male and female participants, as well as students who represent a mix of religious and cultural backgrounds.

Please note: The level of English among the students may vary. The host institutions will be required to prepare lectures and discussions that meet the highest academic standards while using language appropriate for students for whom English is their second or third language.

U.S. embassies and consulates overseas will make a particular effort to recruit participants who have had little or no prior experience in the United States or elsewhere outside their home countries. They will also seek candidates who are from non-elite or underprivileged backgrounds and from both rural and urban areas. Nominees should be willing and able to fully participate in an intensive academic program that includes educational travel, and in community service activities. All participants will be selected largely on the basis of their demonstrated leadership capacity, and must return home at the conclusion of the Institute to continue their university studies in the fall of 2006.

Please note: Special sensitivity will be required on the part of the host institution to the cultural traditions and religious practices of the institute participants who will represent a variety of Muslim and other religious traditions. Special requirements and restrictions regarding diet, daily worship, housing and medical care should be considered. The Bureau will provide guidance and assistance to the host institution, as needed.

Program Dates

Each Institute should be a maximum of 47 days in length (including participant arrival and departure days). It is anticipated that the institutes for undergraduate student leaders will begin in early July 2006.

Program Guidelines

It is essential that proposals provide a full, detailed and comprehensive narrative describing the objectives of the Institute; the title, scope and content of each session; planned site visits; and how each session relates to the overall institute theme. A syllabus must be included that explains the subject matter for each panel discussion, group presentation, lecture or other activity. The syllabus should also confirm or provisionally identify proposed speakers and session leaders, and clearly show how assigned readings will advance the goals of each section. A calendar of all program activities must be included in the proposal, as well as a description of plans for public and media outreach in connection with the Institute.

Please note: The Branch for the Study of the United States will assume the following responsibilities for the institutes: participation in the selection of participants; conducting a pre-program orientation; oversight of the institutes through one or more site visits; debriefing participants in Washington, DC, at the conclusion of the Institute; engaging in follow-on communication with the participants after they return to their home countries. The Branch may require changes in the content or scope of activities of the Institute, either before or after the grant is awarded. The recipient will be required to obtain approval of significant agenda/syllabus changes in advance of their implementation.

II. Award Information

Type of Award: Cooperative Agreement. ECA's level of involvement in this program is listed under number I above.

Fiscal Year Funds: FY-2006.

Approximate Total Funding: $836,000.

Approximate Number of Awards: 2.

Approximate Average Award: $399,000.

Floor of Award Range: $380,000.

Ceiling of Award Range: $418,000.

Anticipated Award Date: Pending availability of funds, March 31, 2006.

Anticipated Project Completion Date: September 30, 2007.

Additional Information: Pending successful implementation of this program and the availability of funds in subsequent fiscal years, it is ECA's intent to renew this grant for two additional fiscal years, before openly competing it again.

III. Eligibility Information:

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs. When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Grants awarded to eligible organizations with less than four years of experience in conducting international exchange programs will be limited to $60,000.

IV. Application and Submission Information:

Note: Please read the complete Federal Register announcement before sending inquiries or submitting proposals. Once the RFGP deadline has passed, Bureau staff may not discuss this competition with applicants until the proposal review process has been completed.

IV.1. Contact Information to Request an Application Package:

Please contact the Branch for the Study of the United States, ECA/A/E/USS, Room 314, U.S. Department of State, SA-44, 301 4th Street, SW., Washington, DC 20547; tel. (202) 453-8536; fax (202) 453-8533; e-mail: caseysd@state.gov to request a Solicitation Package. Please refer to the Funding Opportunity Number ECA/A/E/USS-06-MEPI-4.

The Solicitation Package contains the Proposal Submission Instruction (PSI) document, which consists of required application forms and standard guidelines for proposal preparation. It also contains the Project Objectives, Goals and Implementation (POGI) document, which provides specific information, award criteria and budget instructions tailored to this competition.

Please specify Sheila Casey and refer to the Funding Opportunity Number ECA/A/E/USS-06-MEPI-4 on all other inquiries and correspondence.

IV.2. To Download a Solicitation Package Via Internet: The entire Solicitation Package may be downloaded from the Bureau's Web site at: http://exchanges.state.gov/education/rfgps/menu.htm. Please read all information before downloading.

IV.3. Content and Form of Submission: Applicants must follow all instructions in the Solicitation Package. The original and ten (10) copies of the application should be sent per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory PSI document, as well as the POGI document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence To All Regulations Governing the J Visa: The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

The Bureau will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547.

Telephone: (202) 203-5029.

FAX: (202) 453-8640.

Please refer to Solicitation Package for further information.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) (identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e.1. Applicants must submit a comprehensive budget for the entire program. Awards may not exceed $418,000. There must be a summary budget as well as breakdowns reflecting both administrative and program budgets. Applicants may provide separate sub-budgets for each program component, phase, location, or activity to provide clarification.

IV.3e.2. Allowable costs for the program include the following:

(1) Institute staff salary and benefits.

(2) Participant housing and meals.

(3) Participant travel.

(4) Textbooks and educational materials.

(5) Speaker honoraria.

Please refer to the Solicitation Package for complete budget guidelines and formatting instructions.

IV.3f. Submission Dates and Times:

Application Deadline Date: January 31, 2006.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and ten (10) copies of the application should be sent to: U.S. Department of State, SA-44, Bureau of Educational and Cultural Affairs, Ref.: ECA/A/E/USS-06-MEPI-4, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

Applicants must also submit the “Executive Summary” and “Proposal Narrative” sections of the proposal in text (.txt) format on a PC-formatted disk. The Bureau will provide these files electronically to the appropriate Public Affairs Section(s) at the U.S. embassy(ies) for its (their) review.

Applicant institutions or organizations may submit only one (1) proposal to conduct one (1) MEPI Study of the United States Institute for Undergraduate Student Leaders.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of Program Idea/Plan: Proposals should exhibit originality, substance, precision, and relevance to the Bureau's mission. Detailed agenda and relevant work plan should demonstrate substantive undertakings and logistical capacity.

2. Ability to Achieve Overall Program Objectives: Objectives should be reasonable, feasible, and flexible. Proposals should clearly demonstrate how the institution will meet the program's objectives and plan.

3. Support for Diversity: Proposals should demonstrate substantive support of the Bureau's policy on diversity. Achievable and relevant features should be cited in both program administration (selection of participants, program venue and program evaluation) and program content (orientation and wrap-up sessions, program meetings and resource materials).

4. Evaluation and Follow-Up: Proposals should include a plan to evaluate the activity's success, both as the activities unfold and at the end of the program. A draft survey questionnaire or other technique plus description of a methodology to use to link outcomes to original project objectives is recommended.

5. Cost-effectiveness/Cost-sharing: The overhead and administrative components of the proposal, including salaries and honoraria, should be kept as low as possible. All other items should be necessary and appropriate. Proposals should maximize cost-sharing through other private sector support as well as institutional direct funding contributions.

6. Institutional Track Record/Ability: Proposals should demonstrate an institutional record of successful exchange programs, including responsible fiscal management and full compliance with all reporting requirements for past Bureau grants as determined by Bureau Grants Staff. The Bureau will consider the past performance of prior recipients and the demonstrated potential of new applicants.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants. http://exchanges.state.gov/education/grantsdiv/terms.htm#articleI.

VI.3. Reporting Requirements: You must provide ECA with a hard copy original plus one (1) copy of the final program and financial report no more than 90 days after the expiration of the award.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements:

Organizations awarded grants will be required to maintain specific data on program participants and activities in an electronically accessible database format that can be shared with the Bureau as required. As a minimum, the data must include the following:

(1) Name, address, contact information and academic major of all participants.

(2) Itineraries of international and domestic travel for all participants, providing dates of travel and cities in which any exchange experiences take place. Final itineraries must be received by the ECA Program Officer at least three work days prior to the participants' arrival in the United States.

VII. Agency Contacts

For questions about this announcement, contact: Sheila Casey, Branch for the Study of the United States, ECA/A/E/USS, Room 314, ECA/A/E/USS-06-MEPI-4, U.S. Department of State, SA-44, 301 4th Street, SW., Washington, DC 20547; tel. (202) 453-8536; fax (202) 453-8533, e-mail: caseysd@state.gov.

All correspondence with the Bureau concerning this RFGP should reference the above title and number ECA/A/E/USS-06-MEPI-4.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: December 7, 2005.
Dina Habib Powell,
Assistant Secretary for Educational and Cultural Affairs, Department of State.

[FR Doc. E5-7390 Filed 12-14-05; 8:45 am]

BILLING CODE 4710-05-P